DEPARTMENT OF VETERANS AFFAIRS

[OMB Control No. 2900-0519]

Agency Information Collection (A Locality Pay for Nurses and Other Health Care Personnel, VA Form 10-0132); Activities: Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0519 (VA Locality Pay for Nurses and Other Health Care Personnel)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0519 (VA Locality Pay for Nurses and Other Health Care Personnel)” in any correspondence.

SUPPLEMENTARY INFORMATION:

Title: Locality Pay for Nurses and Other Health Care Professionals, VA Form 10-0132.

OMB Control Number: 2900-0519.

Type of Review: Revision of an approved collection.

Abstract: The collection of this information is necessary to comply with the provisions of Public Law 101-366 (Department of Veterans Affairs (VA) Nurse Pay Act of 1990) as amended by 106-419 (Veterans Benefits and Health Care Improvement Act of 2000), which specifically provides for a locality pay system for certain health care personnel within VA. Rates of pay are established by VA medical facility Directors based on rates of compensation for corresponding positions in the local labor market. The law requires that where available, data from the Bureau of Labor Statistics or other third party industry surveys will be used in determining the beginning rates of compensation. However, VA medical facility Directors may conduct a salary survey in an attempt to collect comparable survey data in order to implement and adjust rates for registered nurses, nurse anesthetists, and other health care personnel when other data sources are not available.

An agency may not conduct or sponsor, and a person is not required to respond to a collection of information unless it displays a currently valid OMB control number. The Federal Register Notice with a 60-day comment period soliciting comments on this collection of information was published at 79 FR 61691, October 14, 2014.

Affected Public: Individuals or households.

Estimated Total Annual Burden: 67 hours.

Estimated Average Burden per Respondent: 1.5 minutes.

Frequency of Response: Yearly.

Estimated Number of Respondents: 90.

By direction of the Secretary.
Crystal Rennie,
VA Clearance Officer, Department of Veterans Affairs.

[FR Doc. 2015-00407 Filed 1-13-15; 8:45 am]

BILLING CODE 8320-01-P